DEPARTMENT OF THE INTERIOR

Minerals Management Service

Extension of Post-Sale Evaluation Period for Central Gulf of Mexico Lease Sale 206

AGENCY: Minerals Management Service (MMS), Interior.

ACTION: Notice to Extend Post-Sale Evaluation Period for Central Gulf of Mexico Lease Sale 206.

SUMMARY: This notice extends by 30 days, the post-sale evaluation period for Central Gulf of Mexico Lease Sale 206. The Minerals Management Service (MMS) will complete evaluating all the bids received in this sale by July 17, 2008. This action is necessary due to the unusually high number of bids received in this lease sale.

DATES: The post-sale evaluation period ends on June 17, 2008.

FOR FURTHER INFORMATION CONTACT: David Marin, Regional Supervisor, Resource Evaluation, Gulf of Mexico Region, telephone 504-736-2710.

SUPPLEMENTARY INFORMATION: In the Central Gulf of Mexico Sale 206, held March 19, 2008, we received 1057 bids on 615 tracts, 513 tracts of which passed to a second phase requiring additional detailed evaluations. The aggressive bidding activity is due, in part, to the high number of quality prospects on recently expired unexplored tracts in newly established deepwater hydrocarbon plays and to the cost saving technological advances related to hydrocarbon exploration and development in the Gulf of Mexico's deepwater environment. The unusually high number of bids received on a large number of tracts, and the high volume of exclusively reprocessed data identified on Sale 206, significantly increases the workload for reviewing the adequacy of bids. Consequently, MMS is unable to conduct and complete the bid review process within the 90 days, i.e., by June 17, 2008. Under the provisions of § 256.47(e)(2), MMS is extending the bid evaluation period until July 17, 2008.

Dated: May 5, 2008.
Lars Herbst,
Regional Director, Gulf of Mexico OCS Region.

[FR Doc. E8-11711 Filed 5-23-08; 8:45 am]

BILLING CODE 4310-MR-P